FEDERAL COMMUNICATIONS COMMISSION

47 CFR Part 20

[CC Docket No. 94-102; FCC 00-405]

Wireless Radio Services; Compatibility With Enhanced 911 Emergency Calling Systems

AGENCY: Federal Communications Commission.

ACTION: Final rule; petitions for reconsideration.

SUMMARY: In this document the Commission denies two petitions for reconsideration of the Second Memorandum Opinion and Order in this proceeding, which modified the Commission's wireless Enhanced 911 (E911) rules to eliminate the prerequisite that carrier cost recovery mechanisms be in place before the wireless carrier's obligation to provide E911 service is triggered. The Commission take this actions to respond to these petitions for reconsideration.

DATES: Effective December 18, 2000.

FOR FURTHER INFORMATION CONTACT: Barbara Reideler, 202-418-1310.

SUPPLEMENTARY INFORMATION: This is a summary of the Commission's Fifth Memorandum Opinion and Order (Fifth MO&O) in CC Docket No. 94-102; FCC 00-405, adopted November 9, 2000, and released November 22, 2000. The complete text of this Fifth MO&O is available for inspection and copying during normal business hours in the FCC Reference Information Center, Courtyard Level, 445 12th Street, S.W., Washington, DC, and also may be purchased from the Commission's copy contractor, International Transcription Services (ITS, Inc.), CY-B400, 445 12th Street, S.W., Washington, DC.

Synopsis of the Fifth Memorandum Opinion and Order

1. In this Fifth Memorandum Opinion and Order (Fifth MO&O), the Commission denies two petitions for reconsideration of the Second Memorandum Opinion and Order (see Second MO&O, 64 FR 72951, December 29, 1999) in this proceeding, in which the Commission modified its Enhanced 911 (E911) to eliminate the prerequisite that carrier cost recovery mechanisms be in place before the wireless carrier's obligation to provide E911 service is triggered. In January 2000, Rural Cellular Association (RCA) and CorrComm, L.L.C. filed petitions for reconsideration of that decision. In April 2000, RCA filed a peittion for stay of the implementation of the amended cost recovery rule, which became effective on April 27, 2000. Inasmuch as the Commission now denies the petitions for reconsideration of the Second MO&O, the petition for stay is denied as moot.

2. In denying the petitions for reconsideration the Commission affirms that: (1) Adequate notice and opportunity for comment was provided, (2) a complete record supports our conclusion that the rule resulted in a significant impediment to Phase I implementation that was inconsistent with our rules and the statute, and (3) we fully considered the impact of removing the carrier cost recovery requirement on all carriers, including rural carriers.

Final Regulatory Flexibility Analysis

3. The Commission has not prepared an additional Final Regulatory Flexibility Analysis (FRFA) of the possible economic impact on small entities of the Commission's decisions. See generally, the Regulatory Flexibility Act (RFA), 5 U.S.C. 604, because this Fifth MO&O does not promulgate or revise any rules, and the previous FRA analyses in this proceeding remain unchanged.

Authority

4. This action is taken pursuant to sections 1, 4(i), 201, 303, 309, and 332 of the Communications Act of 1934, as amended by the Telecommunications Act of 1996, 47 U.S.C. 151, 154(i), 201, 303, 309, and 332.

Ordering Clauses

5. The Petitions for Reconsideration filed by Corr Wireless Communications, L.L.C. (formerly CorrComm, L.L.C.) and Rural Cellular Association are denied. The Petition for Stay filed by Rural Cellular Association is denied as moot.

Federal Communications Commission.
Magalie Roman Salas,
Secretary.

[FR Doc. 00-32134 Filed 12-15-00; 8:45 am]

BILLING CODE 6712-01-P